DEPARTMENT OF HOMELAND SECURITY

Coast Guard

[Docket No. USCG-2008-0566]

Houston/Galveston Navigation Safety Advisory Committee

AGENCY: Coast Guard, DHS.

ACTION: Notice of meetings.

SUMMARY: The Houston/Galveston Navigation Safety Advisory Committee (HOGANSAC) and its working groups will meet in Texas City, Texas, to discuss waterway improvements, aids to navigation, area projects impacting safety on the Houston Ship Channel, and various other navigation safety matters in the Galveston Bay area. All meetings will be open to the public.

DATES: The Committee will meet on Tuesday, September 16, 2008, from 9 a.m. to 12 noon. The Committee's working groups will meet on Thursday, September 4, 2008, from 9 a.m. to 12 noon. These meetings may close early if all business is finished before 12 noon. Written material and requests to make oral presentations to the Committee should reach the Coast Guard on or before September 9, 2008. Requests to have a copy of your materials distributed to each member of the committee or working group should reach the Coast Guard on or before September 2, 2008.

ADDRESSES: The full Committee will meet at Marine Safety Unit Galveston, 2101 FM 2004, Texas City, Texas 77591, (409) 978-2700. The working group meeting will be held at Marine Safety Unit Galveston, 2101 FM 2004, Texas City, Texas 77591, (409) 978-2700. Send written material and requests to make oral presentations to LT Sean Hughes, Assistant to the Executive Secretary of HOGANSAC, 9640 Clinton Drive, Houston, Texas 77029. This notice is available in our online docket, USCG-2008-0566, at http://www.regulations.gov.

FOR FURTHER INFORMATION CONTACT: Commander Hal R. Pitts, Executive Secretary of HOGANSAC, telephone (713) 671-5164, e-mail hal.r.pitts@uscg.mil or Lieutenant Sean Hughes, Assistant to the Executive Secretary of HOGANSAC, telephone (713) 678-9001, e-mail sean.p.hughes@uscg.mil.

SUPPLEMENTARY INFORMATION: Notice of these meetings is given pursuant to the Federal Advisory Committee Act, 5 U.S.C. App. (Pub. L. 92-463).

Agendas of the Meetings:

Houston/Galveston Navigation Safety Advisory Committee (HOGANSAC). The tentative agenda is as follows:

(1) Opening remarks by the Committee Sponsor (RADM Whitehead) or the Committee Sponsor's representative, Executive Director (CAPT Diehl) and Chairperson (Ms. Tava Foret).

(2) Approval of the May 22, 2008 minutes.

(3) Old Business:

(a) Navigation Operations (NAVOPS)/Maritime Incident Review subcommittee report;

(b) Dredging subcommittee report;

(c) Technology subcommittee report;

(d) Waterways Optimization subcommittee report;

(e) Harbor of Safe Refuge subcommittee report;

(f) HOGANSAC Outreach subcommittee report;

(g) Commercial Recovery Contingency subcommittee report; and

(h) Area Maritime Security Committee (AMSC) Liaison's report.

(4) New Business:

Working Groups Meeting. The tentative agenda for the working groups meeting is as follows:

(1) Presentation by each working group of its accomplishments and plans for the future;

(2) Review and discuss the work completed by each working group; and

(3) Put forth any action items for consideration at full committee meeting.

Procedural

Both meetings are open to the public. Please note that meetings may close early if all business is finished. At the Chairs' discretion, members of the public may make oral presentations during the meetings. If you would like to make an oral presentation at the Committee's September 16 meeting, please notify the Coast Guard no later than September 9, 2008. Written material for distribution at a meeting should reach the Coast Guard no later than September 2, 2008. If you would like a copy of your material distributed to each member of the committee in advance of the meetings, please submit 19 copies to the Coast Guard no later than September 2, 2008.

Information on Services for Individuals With Disabilities

For information on facilities or services for individuals with disabilities or to request special assistance at the meetings, contact the Executive Secretary or Assistant to the Executive Secretary as soon as possible.

Dated: June 24, 2008.
J.H. Korn,
Captain U.S. Coast Guard, Commander, 8th Coast Guard District, Acting.

[FR Doc. E8-16769 Filed 7-21-08; 8:45 am]

BILLING CODE 4910-15-P